DEPARTMENT OF TRANSPORTATION

Federal Aviation Administration

Aircraft Noise Impacts Research Roadmap

AGENCY: Federal Aviation Administration (FAA), DOT.

ACTION: Notice of meeting participation.

SUMMARY: This notice advises interested persons that the FAA is conducting workshops to develop an aircraft noise impacts research roadmap. The roadmap is intended to advance our scientific knowledge in order to optimally address the impacts of aircraft noise on society. The main objective of the workshops is to outline key research elements of the roadmap, prioritize research questions, and identify ways to overcome potential research challenges.

DATES: The first workshop will be held in Washington, DC, on December 10 and 11, 2009 from 9 a.m. to 4 p.m. A follow-on workshop will be held on March 4, 2010, from 9 a.m. to 4 p.m.

ADDRESSES: The first workshop will be held at the National Academy of Sciences Keck Center, 500 Fifth Street, NW., Washington, DC. The follow-on workshop will be held in conjunction with the University of California-Davis Symposium on Aviation Noise and Air Quality and will be held at the Holiday Inn-San Diego—On the Bay, 1355 North Harbor Drive, San Diego, CA 92101. Attendance is open to all interested parties.

FOR FURTHER INFORMATION CONTACT: Patricia Friesenhahn, Office of Environment and Energy (AEE-100), Federal Aviation Administration, 800 Independence Avenue, SW., Washington, DC 20591; e-mail patricia.friesenhahn@faa.gov, telephone (202) 267-3562, facsimile (202) 267-5594. Please register by November 20; there is no registration fee. Additional details will soon be available at http://www.fican.org under FAA Workshop.

Background: Based on the advice of its Research, Engineering and Development Advisory Committee (REDAC), the FAA is developing a comprehensive aircraft noise impacts research roadmap for the FAA and other interested parties to implement more systematic, effective, and complementary research programs. The FAA held a preliminary forum with international noise researchers in conjunction with Internoise 2009 in August 2009 to discuss research needed to advance the current understanding of the relationship between aircraft noise and its impacts such as community annoyance and sleep disturbance. The FAA now invites researchers, practitioners, and other interested parties to participate in a series of upcoming Aircraft Noise Impacts Research Roadmap workshops to contribute to developing the research roadmap with information received from that forum.

Issued in Washington, DC, on October 19, 2009.
Lourdes Q. Maurice,
Acting Director of Environment and Energy.

[FR Doc. E9-25610 Filed 10-22-09; 8:45 am]

BILLING CODE 4910-13-P